DEPARTMENT OF LABOR

Employment and Training Administration

Workforce Investment Act of 1998 (WIA); Notice of Incentive Funding Availability for Program Year (PY) 2005 Performance; Correction

AGENCY: Employment and Training Administration, Department of Labor.

ACTION: Notice; correction.

SUMMARY: The Employment and Training Administration (ETA) published in the Federal Register on April 30, 2007, an announcement from the Department of Labor, in collaboration with the Department of Education, regarding which states are eligible to apply for Workforce Investment Act (WIA) (Pub. L. 105-220, 29 U.S.C. 2801 et seq.) incentive awards under WIA section 503. The April 30, 2007, announcement did not include the complete list of states; the list is now revised to include all eligible states.

FOR FURTHER INFORMATION CONTACT: Karen A. Staha or Traci DiMartini, U.S. Department of Labor, Employment and Training Administration, Office of Performance and Technology, 200 Constitution Avenue, NW., Room S-5206, Washington, DC 20210. Telephone number: 202-693-3031 (this is not a toll-free number). Fax: 202-693-3490. E-mail: staha.karen@dol.gov or dimartini.traci@dol.gov. Information may also be found at the ETA Performance Web site: http://www.doleta.gov/performance.

Correction

In the Federal Register published on April 30, 2007, in the third column, on page 21307, corrected the DATES caption to read:

DATES: The ten eligible states must submit their applications for incentive funding to the Department of Labor by June 14, 2007.

On page 21308, in the chart published in the second and third columns, the eligible states and amount of each award is revised to read:

State | Amount of award
1. Arizona | $1,478,972
2. Delaware | 912,966
3. Illinois | 3,000,000
4. Iowa | 1,079,834
5. Massachusetts | 1,500,386
6. Missouri | 1,627,366
7. Oregon | 1,522,101
8. Tennessee | 1,757,992
9. Virginia | 1,623,378
10. Washington | 1,850,193

On page 21310, the PY 2005-06 Exceeded State Performance Levels chart (see Appendix) was revised to indicate that Washington State is eligible for an incentive under WIA title IB, Adult Education and Family Literacy Act, and Perkins Act criteria.

Dated: May 10, 2007.
Emily Stover DeRocco,
Assistant Secretary for Employment and Training.

Appendix
State | PY 2005-06 Exceeded State Performance Levels: WIA (Title I) | PY 2005-06 Exceeded State Performance Levels: AEFLA (Adult Education) | PY 2005-06 Exceeded State Performance Levels: Perkins Act (Vocational Education) | PY 2005-06 Exceeded State Performance Levels: WIA Title I; AEFLA; Perkins Act
Alabama | X | X |  |
Alaska |  |  | X |
Arizona | X | X | X | X
Arkansas |  |  | X |
California |  |  | X |
Colorado |  | X | X |
Connecticut |  | X | X |
District of Columbia |  | X | X |
Delaware | X | X | X | X
Florida | X |  | X |
Georgia |  | X | X |
Hawaii |  |  | X |
Idaho |  | X | X |
Illinois | X | X | X | X
Indiana |  | X | X |
Iowa | X | X | X | X
Kansas |  | X | X |
Kentucky | X |  | X |
Louisiana |  | X | X |
Maine |  |  | X |
Maryland |  | X | X |
Massachusetts | X | X | X | X
Michigan | X | X |  |
Minnesota | X | X |  |
Mississippi |  | X | X |
Missouri | X | X | X | X
Montana |  | X | X |
Nebraska |  | X | X |
Nevada |  |  | X |
New Hampshire |  | X |  |
New Jersey | X |  | X |
New Mexico |  |  |  |
New York |  | X | X |
North Carolina |  |  | X |
North Dakota | X | X |  |
Ohio |  | X | X |
Oklahoma |  |  | X |
Oregon | X | X | X | X
Pennsylvania |  |  | X |
Puerto Rico |  |  | X |
Rhode Island |  |  |  |
South Carolina |  | X | X |
South Dakota | X | X |  |
Tennessee | X | X | X | X
Texas |  | X | X |
Utah |  |  | X |
Vermont |  |  | X |
Virginia | X | X | X | X
Washington | X | X | X | X
West Virginia |  | X | X |
Wisconsin |  | X | X |
Wyoming |  | X | X |

[FR Doc. E7-9262 Filed 5-11-07; 8:45 am]

BILLING CODE 4510-FN-P